INTERNATIONAL TRADE COMMISSION

[Investigation No. 332-541]

Trade Barriers That U.S. Small and Medium-Sized Enterprises Perceive as Affecting Exports to the European Union; Institution of Investigation and Scheduling of Hearing

AGENCY: United States International Trade Commission.

ACTION: Institution of investigation and scheduling of public hearing.

SUMMARY: Following receipt of a letter from the United States Trade Representative (USTR) dated June 13, 2013 (received on June 18, 2013), under section 332(g) of the Tariff Act of 1930 (19 U.S.C. 1332(g)), the U.S. International Trade Commission (Commission) instituted investigation No. 332-541, Trade Barriers that U.S. Small and Medium-sized Enterprises Perceive as Affecting Exports to the European Union.

DATES:

September 13, 2013: Deadline for filing requests to appear at the public hearing.

September 20, 2013: Deadline for filing pre-hearing briefs and statements.

October 8, 2013: Public hearing.

October 15, 2013: Deadline for filing post-hearing briefs.

October 15, 2013: Deadline for filing all other written statements.

January 31, 2014: Transmittal of Commission report to the USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader William Deese (202-205-2626 or william.deese@usitc.gov) or Deputy Project Leader Tamar Khachaturian (202-205-3299 or tamar.khachaturian@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the USTR, the Commission will conduct an investigation and prepare a report that catalogues trade-related barriers that U.S. small and medium-sized enterprises (SMEs) perceive as disproportionately affecting their exports to the EU, compared to those of larger U.S. exporters to the EU. In identifying these barriers to exporting, the Commission will use, to the extent appropriate, information and definitions contained in the three Commission reports on SMEs released in 2010, including definitions of “SME,” “disproportionate,” and “barrier,” any relevant literature, and information gathered from SMEs and others. As requested by the USTR, the Commission's report will cover barriers faced by U.S. SMEs exporting both goods and services, and will focus primarily on barriers identified by U.S. SMEs that have experience in exporting to the EU. Also as requested, the report, to the degree practicable, will identify barriers by economic sector or by special issue and will focus on sectors with high concentrations of SMEs.

The letter indicated that the United States, in the Transatlantic Trade and Investment Partnership (TTIP) negotiations, will seek to strengthen U.S.-European Union (EU) cooperation to enhance the participation of SMEs in transatlantic trade, and to address trade barriers that may disproportionately impact small businesses.

As requested by the USTR, the Commission (1) will base its report on available information, including information furnished by SMEs and interested parties following the Commission's notice of investigation; (2) will address, where information is available, specific trade barriers in individual EU member states; (3) will provide, to the extent applicable, qualitative distinctions among the identified trade-related barriers; and (4) will include suggestions gathered from SMEs or the relevant literature to strengthen U.S.-EU cooperation to enhance the participation of SMEs in transatlantic trade. As requested by the USTR, the Commission expects to transmit its report to the USTR by January 31, 2014.

Public Hearing: A public hearing in connection with this investigation will be held at the U.S. International Trade Commission Building, 500 E Street SW., Washington, DC, beginning at 9:30 a.m. on October 8, 2013. Requests to appear at the public hearing should be filed with the Secretary, no later than 5:15 p.m., September 13, 2013, in accordance with the requirements in the “Submissions” section below. All pre-hearing briefs and statements should be filed no later than 5:15 p.m., September 20, 2013; and all post-hearing briefs and statements should be filed not later than 5:15 p.m., October 15, 2013. In the event that, as of the close of business on September 13, 2013, no witnesses are scheduled to appear at the hearing, the hearing will be canceled. Any person interested in attending the hearing as an observer or nonparticipant should contact the Office of the Secretary at 202-205-2000 after September 13, 2013, for information concerning whether the hearing will be held.

Written Submissions: In lieu of or in addition to participating in the hearing, interested parties are invited to file written submissions concerning this investigation. All written submissions should be addressed to the Secretary, and should be received no later than 5:15 p.m., October 15, 2013. All written submissions must conform to the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

In the request letter, the USTR stated that the Office of the USTR intends to make the Commission's reports available to the public in their entirety, and asked that the Commission not include any confidential business information or national security classified information in the report that the Commission sends to the USTR. Any confidential business information received by the Commission in this investigation and used in preparing this report will not be published in a manner that would reveal the operations of the firm supplying the information.

Issued: July 25, 2013.
By order of the Commission.
Lisa R. Barton,
Acting Secretary to the Commission.

[FR Doc. 2013-18272 Filed 7-29-13; 8:45 am]

BILLING CODE 7020-02-P